DEPARTMENT OF AGRICULTURE

Agricultural Marketing Service

[Docket Number FV-04-311]

United States Standards for Grades of Kale

AGENCY: Agricultural Marketing Service, USDA.

ACTION: Notice.

SUMMARY: The Agricultural Marketing Service (AMS) of the Department of Agriculture (USDA) is revising the United States Standards for Grades of Kale. Specifically, AMS is revising the standards to allow percentages to be determined by count rather than weight and the application of tolerances for packages which contain less than 15 specimens. Additionally, AMS is revising the standards to allow the standards to be used for kale leaves and bunches of leaves in addition to kale plants. The revisions will bring the standards for kale in-line with current marketing practices, thereby improving their usefulness in serving the industry.

DATES: Effective Date: July 21, 2005.

FOR FURTHER INFORMATION CONTACT: David Priester, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail David.Priester@usda.gov. The revised United States Standards for Grades of Kale will be available either through the address cited above or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA/AMS/Fruit and Vegetable Programs.

AMS is revising the voluntary U.S. Standards for Grades of Kale using procedures that appear in Part 36, Title 7 of the Code of Federal Regulations (7 CFR part 36).

Background

On October 1, 2004, AMS published a notice in the Federal Register (69 FR 58879) soliciting comments on the possible revision to the United States Standards for Grades of Kale. In response to our request for comments, AMS received one comment from an industry group in favor of the proposed revision. The group also requested to allow the standards to be used for kale leaves and bunched kale leaves in addition to kale plants.

A second notice was published in the March 11, 2005, Federal Register (70 FR 12172) based on the comment received on the first notice. AMS received one comment from an industry group in response to the second notice. The comment was in favor of the revision to the standard. The favorable comment stated that a well-defined standard for kale shipped in a variety of ways will improve consistency of delivered product and enhance the relevance and effectiveness of USDA inspections. The comment is available by accessing AMS's Home Page on the Internet at: http://www.ams.usda.gov/fv/fpbdocketlist.htm.

Additionally, AMS is eliminating the unclassified category. This section is being removed in all standards, when they are revised. This category is not a grade and only serves to show that no grade has been applied to the lot. It is no longer considered necessary.

Based on comments received and information gathered, AMS believes the revisions to the standards will bring the standards for kale in-line with current marketing practices and thereby improve their usefulness.

The official grade of a lot of kale covered by these standards is determined by the procedures set forth in the Regulations Governing Inspection, Certification, and Standards of Fresh Fruits, Vegetables and Other Products (Sec. 51.1 to 51.61).

The United States Standards for Grades of Kale will become effective 30 days after the publication of this notice in the Federal Register.

Authority: 7 U.S.C. 1621-1627.

Dated: June 15, 2005.
Kenneth C. Clayton,
Acting Administrator, Agricultural Marketing Service.

[FR Doc. 05-12154 Filed 6-20-05; 8:45 am]

BILLING CODE 3410-02-P